FEDERAL MARITIME COMMISSION

Ocean Transportation Intermediary License; Reissuances

Notice is hereby given that the following Ocean Transportation Intermediary licenses have been reissued by the Federal Maritime Commission pursuant to section 19 of the Shipping Act of 1984, as amended by the Ocean Shipping Reform Act of 1998 (46 U.S.C. app. 1718) and the regulations of the Commission pertaining to the licensing of Ocean Transportation Intermediaries, 46 CFR 515.

License No. | Name/address | Date reissued
4055N | International Cargo Services, Inc., 139 Mitchell Avenue, Suite #106, South San Francisco, CA 94080 | December 31, 2000.
18F | International Transportation Corp., 17 Battery Place, Suite 928, New York, NY 10004 | June 10, 1999.
4577F | Transtar Shipping, Inc., 405 Victory Avenue, Suite D, South San Francisco, CA 94080 | January 1, 2001.

Sandra L. Kusumoto,
Director, Bureau of Consumer Complaints and Licensing.

[FR Doc. 01-3766 Filed 2-13-01; 8:45 am]

BILLING CODE 6730-01-P